DEPARTMENT OF COMMERCE

National Oceanic and Atmospheric Administration

50 CFR Part 648

[Docket No. 140624530-4848-01]

RIN 0648-XD354

Revisions to Framework Adjustment 51 to the Northeast Multispecies Fishery Management Plan and Sector Annual Catch Entitlements; Updated Annual Catch Limits for Sectors and the Common Pool for Fishing Year 2014

AGENCY: National Marine Fisheries Service (NMFS), National Oceanic and Atmospheric Administration (NOAA), Commerce.

ACTION: Temporary final rule; adjustment to specifications.

SUMMARY: Based on the final Northeast multispecies sector rosters, we are adjusting the fishing year 2014 specification of annual catch limits for commercial groundfish vessels, as well as sector annual catch entitlements for groundfish stocks by adding carried over catch from fishing year 2013 and reducing quotas for some stocks by the amount of overages exceeding their limits in fishing year 2013, among other adjustments. This revision to fishing year 2014 catch levels is necessary to account for changes in the number of participants electing to fish in sectors.

DATES: Effective October 23, 2014, through April 30, 2015.

FOR FURTHER INFORMATION CONTACT: Allison Murphy, Sector Policy Analyst, (978) 281-9122.

SUPPLEMENTARY INFORMATION: The New England Fishery Management Council developed Amendment 16 to the Northeast (NE) Multispecies Fishery Management Plan (FMP), in part, to establish a process for setting groundfish annual catch limits (also referred to as ACLs or catch limits) and accountability measures. The Council has a biennial review process to develop catch limits and revise management measures. Framework Adjustment 51 and concurrent emergency actions set annual catch limits for nine groundfish stocks and three jointly managed U.S./Canada stocks for fishing years 2014-2015. Recently, we partially approved Framework 51, which became effective on May 1, 2014 (79 FR 22421; April 22, 2014), and also approved fishing year 2014 sector operations plans and allocations (79 FR 23278; April 28, 2014; “sector rule”). A sector receives an allocation of each stock, or annual catch entitlement (referred to as ACE, or allocation), based on its members' catch histories. State-operated permit banks also receive an allocation that can be transferred to qualifying sector vessels (for more information, see the final rule implementing Amendment 17 (77 FR 16942; March 23, 2012)). The sum of all sector and state-operated permit bank allocations is referred to as the sector sub-ACL in the FMP. Whatever groundfish allocation remains after sectors and state-operated permit banks receive their allocations is then allocated to vessels not enrolled in a sector (referred to as the common pool). This allocation is also referred to as the common pool sub-ACL. This rule adjusts the both the sector and common pool fishing year 2014 sub-ACLs based on final sector membership, which was established as of May 1, 2014.

Permitted vessels that wish to fish in a sector must enroll by December 1 of each year, with the fishing year beginning the following May 1 and lasting through April 30 of the next year. However, due to a delay in distributing each vessel's potential contribution to a sector's quota for fishing year 2014, we extended the deadline to join a sector until March 6, 2014. Because of this extended deadline, and the fact that vessels had until April 30, 2014, to drop out of a sector and fish in the common pool, fishing year 2013 membership was used to estimate sector ACEs in the Framework 51 final rule. The fishing year 2014 sector final rule, which published later than the Framework 51 final rule, used March 6, 2014, rosters to estimate sector ACEs.

The final number of permits enrolled in a sector or state-operated permit bank for fishing year 2014 is 845, which is 4 less than the March 6, 2013, roster. All sector allocations assume that each NE multispecies vessel enrolled in a sector has a valid permit for fishing year 2014. Tables 1, 2, and 3 (below) explain the revised fishing year 2014 allocations as a percentage and absolute amount (in metric tons and pounds).

Table 4 compares the preliminary allocations based on fishing year 2013 membership published in the Framework 51 proposed and final rules, with the revised allocations based on the final sector and state-operated permit bank rosters as of May 1, 2014. The table shows that changes in sector allocations due to updated rosters range from a decrease of 0.86 percent of Southern New England/Mid-Atlantic (SNE/MA) yellowtail flounder, to an increase of 0.40 percent of Georges Bank (GB) yellowtail flounder. Common pool allocation adjustments range between a 2.94-percent decrease in GB cod, to a 15.79-percent increase in redfish. The changes in the common-pool allocations are greater because the common pool has a significantly lower allocation for all stocks.

BILLING CODE 3510-22-P

We have completed fishing year 2013 data reconciliation with sectors and allowed a 2-week window for any sector with an overage to trade fishing year 2013 ACE to balance the overage. We have since determined final fishing year 2013 sector catch and the amount of quota that sectors may carry from fishing year 2013 into fishing year 2014. A recent emergency rule (79 FR 36433; June 27, 2014) described changes to carryover and catch accounting in response to litigation by Conservation Law Foundation (Conservation Law Foundation v. Pritzker, et al. (Case No. 1:13-CV-0821-JEB)). The Court invalidated the previous carryover measures because those measures failed to prevent total potential catches of certain stocks (ACEs plus carryover) from exceeding their annual biological catch (ABC). This rule ensures that catch does not exceed the ABC for any stock. Because of this, the maximum carryover for certain stocks may be lower than what a sector expects. Table 5 includes the maximum amount of quota that sectors may carry over from fishing year 2013 into fishing year 2014. Table 6 includes the de minimis amount of quota that sectors may carry over from fishing year 2013 into fishing year 2014.

We have determined that 9 sectors have exceeded their fishing year 2013 allocation of witch flounder, requiring reductions to those sectors' fishing year 2014 allocations. Because of the Court decision discussed above, we were required to reduce the amount of witch flounder carryover available for sectors to use in fishing year 2013. Some sectors inadvertently exceeded their fishing year 2013 witch flounder ACE and were unable to transfer a sufficient amount of quota to cover the overage. Reducing ACE by the overage amount is necessary to address the requirement to apply a pound-for-pound reduction in ACE in the year following an overage. Table 6 includes a summary of the sectors with fishing year 2013 witch flounder overages, the initial fishing year 2014 witch flounder ACE included in Table 3, and adjusted fishing year 2014 witch flounder ACE, accounting for the overage.

Summarizing all the information provided above, Tables 8 and 9 display the total amount of ACE available to sectors in fishing year 2014, including reductions for overages, and adding maximum carryover.

Framework 51 also specifies incidental catch limits (or incidental total allowable catches, “TACs”) applicable to the common pool and NE multispecies Special Management Programs for fishing year 2013-2015, including the B day-at-sea (DAS) Program. Special Management Programs are designed to allow fishing for healthy stocks that can support additional fishing effort without undermining the other goals of the FMP. Incidental catch limits are specified to limit catch of certain stocks of concern for common pool vessels fishing in the Special Management Programs. Because these incidental catch limits are based on the changed common-pool allocation, they also must be revised. Final incidental catch limits are included in Tables 10-13 below.

Table 10—Fishing Year 2014 Common Pool Incidental Catch TACs
Stock | Percentage of common pool sub-ACL | Incidental catch TAC (mt)
GB cod | 2 | 0.6
GOM cod | 1 | 0.2
GB yellowtail flounder | 2 | 0.08
CC/GOM yellowtail flounder | 1 | 0.2
American Plaice | 5 | 1.3
Witch Flounder | 5 | 0.6
SNE/MA winter flounder | 1 | 1.5

Table 11—Distribution of Common Pool Incidental Catch TACs to Each Special Management Program
Stock | Regular B DAS program (%) | Closed area I hook gear haddock SAP (%) | Eastern U.S./CA haddock SAP (%)
GB cod | 50 | 16 | 34
GOM cod | 100 | NA | NA
GB yellowtail flounder | 50 | NA | 50
CC/GOM yellowtail flounder | 100 | NA | NA
American Plaice | 100 | NA | NA
Witch Flounder | 100 | NA | NA
SNE/MA winter flounder | 100 | NA | NA

Table 12—Fishing Year 2014 Common Pool Incidental Catch TACs for Each
Special Management Program (mt)
Stock | Regular B DAS program | Closed area I hook gear haddock SAP | Eastern U.S./Canada haddock SAP
GB cod | 0.3 | 0.1 | 0.2
GOM cod | 0.2 | n/a | n/a
GB yellowtail flounder | 0.04 | n/a | 0.04
CC/GOM yellowtail flounder | 0.2 | n/a | n/a
American Plaice | 1.3 | n/a | n/a
Witch Flounder | 0.6 | n/a | n/a
SNE/MA winter flounder | 1.5 | n/a | n/a

Table 13—Fishing Year 2014 Common Pool Regular B DAS Program Quarterly Incidental Catch TACs (mt)
| 1st Quarter (13%) | 2nd Quarter (29%) | 3rd Quarter (29%) | 4th Quarter (29%)
GB cod | 0.04 | 0.09 | 0.09 | 0.09
GOM cod | 0.02 | 0.06 | 0.06 | 0.06
GB yellowtail flounder | 0.005 | 0.011 | 0.011 | 0.011
CC/GOM yellowtail flounder | 0.02 | 0.05 | 0.05 | 0.05
American Plaice | 0.17 | 0.37 | 0.37 | 0.37
Witch Flounder | 0.08 | 0.18 | 0.18 | 0.18
SNE/MA winter flounder | 0.19 | 0.43 | 0.43 | 0.43

Similar to the accountability measures for sectors when a quota overage occurs, if the common pool sub-ACL for any stock is exceeded, we are required to reduce the common pool sub-ACL by the amount of the overage in the next fishing year. We are reducing the fishing year 2014 GB cod and GOM haddock common pool sub-ACLs due to fishing year 2013 overages. The fishing year 2013 common pool sub-ACL for GB cod was exceeded by 8 percent (2.3 mt) and the GOM haddock common pool sub-ACL was exceeded by 118 percent (1.2 mt). Therefore, we are reducing the fishing year 2014 GB cod and GOM haddock common pool sub-ACLs due to the fishing year 2013 overages. Table 14 provides the common pool overage adjustments for these stocks. Table 15 provides the updated trimester Total Allowable Catches (TACs) for GB cod and GOM haddock based on the final FY 2014 common pool sub-ACLs.

Table 14—Fishing Year 2014 Common Pool Overage Adjustment (mt)
Stock | Fishing year 2013 overage | Initial fishing year 2014 common pool sub-ACL | Adjusted fishing year 2014 common pool sub-ACL
GB Cod | 2.3 | 34 | 31.7
GOM Haddock | 1.2 | 2 | 0.8

Table 15—Fishing Year 2014 Common Pool Trimester TACs (mt)
Stock | Trimester 1 TAC | Trimester 2 TAC | Trimester 3 TAC
GB Cod | 8.0 | 11.9 | 12.2
GOM Haddock | 0.22 | 0.21 | 0.38

We are reducing the fishing year 2014 GB haddock sub-ACL for the herring mid-water trawl fishery due to a fishing year 2013 overage. The herring mid-water trawl fishery is allocated 1 percent of the U.S. ABC for each stock of GOM and GB haddock. If the herring mid-water trawl fishery exceeds its GOM or GB haddock sub-ACL, we are required to reduce the respective sub-ACL by the amount of the overage in the following fishing year. In fishing year 2013, the mid-water trawl fishery exceeded its GB haddock sub-ACL by 16.98 mt. Therefore, this rule reduces the fishing year 2014 GB haddock sub-ACL by the 16.98 mt overage for the herring mid-water trawl fishery. Table 16 provides the herring mid-water trawl adjustments for GB haddock that this rule implements.

Table 16—Fishing Year 2014 Herring Mid-Water Trawl Overage Adjustment (mt)
Stock | Fishing year 2013 overage | Initial fishing year 2014 herring mid-water trawl sub-ACL | Adjusted fishing year 2014 herring mid-water trawl sub-ACL
GB Haddock | 16.98 | 179 | 162.02

Finally, Table 17 provides the U.S. ABCs for the three transboundary Georges Bank stocks that we jointly manage with Canada. The U.S./Canada quotas, and the corresponding ACLs/sub-ACLs were included in the Framework 51 final rule; however, because the U.S. ABCs for GB cod, haddock, and yellowtail flounder were mis-specified, the corrected levels are being included here in this rule.

Table 17—U.S. Acceptable Biological Catches for Transboundary Stocks
Stock | U.S. ABC (mt)
GB Cod | 1,960
GB Haddock | 19,229
GB Yellowtail Flounder | 328

Classification

Pursuant to section 304(b)(1)(A) of the Magnuson-Stevens Act, the NMFS Assistant Administrator has determined that this final rule is consistent with the NE Multispecies FMP, other provisions of the Magnuson-Stevens Act, and other applicable law.

This final rule is exempt from the procedures of E.O. 12866 because this action contains no implementing regulations.

Pursuant to 5 U.S.C. 553(b)(3)(B), we find good cause to waive prior public notice and opportunity for public comment on the catch limit and allocation adjustments because allowing time for notice and comment is impracticable and contrary to the public interest. We also find good cause to waive the 30-day delay in effectiveness pursuant to 5 U.S.C. 553(d)(3), so that this final rule may become effective upon filing.

Notice and comment are impracticable and contrary to the public interest because a delay would potentially impair achievement of the management plan's objectives of preventing overfishing and achieving optimum yield by vessels staying within ACLs or allocations. The proposed and final rules for fishing year 2014 sector operations plans and contracts explained the need and likelihood for adjustments of sector and common pool allocations based on final sector rosters. No comments were received on the potential for these adjustments, which provide an accurate accounting of a sector's or common pool's allocation at this time. Prior notice of the need to distribute carryover catch was also provided. Allowing for prior notice and public comment on the herring mid-water trawl overage adjustment is impracticable because this is a non-discretionary action required by provisions of Framework 46 to the NE Multispecies FMP, which was subject to public comment. The proposed rule to implement Framework 46 requested public comment on these measures including the specific accountability measure implemented by this rule, with the understanding that possession limit trigger adjustments would be required if an ACL overage occurred. If this rule is not effective immediately, the sector and common pool vessels will be operating under incorrect information on the catch limits for each stock for sectors and the common pool. This could cause negative economic impacts to the both sectors and the common pool, depending on the size of the allocation, the degree of change in the allocation, and the catch rate of a particular stock. Further, these adjustments are based purely on objective sector enrollment data and are not subject to our discretion, so there would be no benefit to allowing time for prior notice and comment.

Waiving the 30-day delay in effectiveness allows harvesting in a manner that prevents catch limits of species from being exceeded in fisheries that are important to coastal communities. Until the final stock allocations are made, the affected fishing entities will not know how many fish of a particular stock they can catch without going over their ultimate limits. Fishermen may make both short- and long-term business decisions based on the catch limits in a given sector or the common pool. Any delays in adjusting these limits may cause the affected fishing entities to slow down, or speed up, their fishing activities during the interim period before this rule becomes effective. Both of these reactions could negatively affect the fishery and the businesses and communities that depend on them. The fishing industry and the communities it supports could be affected by potentially reducing harvests and delaying profits. Lastly, the catch limit and allocation adjustments are not controversial and the need for them was clearly explained in the proposed and final rules for fishing year 2014 sector operations plans and contracts. As a result, the NE multispecies permit holders are expecting these adjustments and awaiting their implementation. Therefore, it is important to implement adjusted catch limits and allocations as soon as possible. For these reasons, we are waiving the public comment period and the 30-day delay in effectiveness for this rule, pursuant to 5 U.S.C. 553(b)(3)(B) and (d), respectively.

Because advanced notice and the opportunity for public comment are not required under the Administrative Procedure Act, or any other law, the analytical requirements of the Regulatory Flexibility Act, 5 U.S.C. 601, et seq., do not apply to this rule. Therefore, no final regulatory flexibility analysis is required and none has been prepared.

Authority: 16 U.S.C. 1801 et seq.

Dated: October 20, 2014.
Samuel D. Rauch III,
Deputy Assistant Administrator for Regulatory Programs, National Marine Fisheries Service.

[FR Doc. 2014-25307 Filed 10-23-14; 8:45 am]

BILLING CODE 3510-22-P